DEPARTMENT OF COMMERCE

National Oceanic and Atmospheric Administration

RIN 0648-XA425

Endangered Species; File No. 15661

AGENCY: National Marine Fisheries Service (NMFS), National Oceanic and Atmospheric Administration (NOAA), Commerce.

ACTION: Notice; issuance of permit modification.

SUMMARY: Notice is hereby given that the Commonwealth of the Northern Mariana Islands (CNMI) Division of Fish and Wildlife, (Arnold Palacios, Responsible Party) has been issued a modification to scientific research Permit No. 15661.

ADDRESSES: The modification and related documents are available for review upon written request or by appointment in the following offices:

Permits and Conservation Division, Office of Protected Resources, NMFS, 1315 East-West Highway, Room 13705, Silver Spring, MD 20910; phone (301) 427-8401; fax (301) 713-0376; and Pacific Islands Region, NMFS, 1601 Kapiolani Blvd., Rm 1110, Honolulu, HI 96814-4700; phone (808) 944-2200; fax (808) 973-2941.

FOR FURTHER INFORMATION CONTACT: Amy Hapeman or Kristy Beard, (301)427-8401.

SUPPLEMENTARY INFORMATION: On June 25, 2013, notice was published in the Federal Register (78 FR 38013) that a modification of Permit No. 15661, issued January 24, 2012 (77 FR13097), had been requested by the above-named organization. The requested modification has been granted under the authority of the Endangered Species Act of 1973, as amended (ESA; 16 U.S.C. 1531 et seq.) and the regulations governing the taking, importing, and exporting of endangered and threatened species (50 CFR 222-226).

Permit No. 15661 authorizes the CNMI to characterize population structure, size class composition, foraging ecology, and migration patterns for green (Chelonia mydas) and hawksbill (Eretmochelys imbricata) sea turtles in the Northern Mariana Islands. Researchers may count and hand capture sea turtles during vessel surveys. Captured sea turtles may be: Measured, weighed, flipper and passive integrated transponder tagged, temporarily marked, tissue sampled, photographed, and/or satellite tagged and tracked before release. Sea turtle carcasses and parts may be opportunistically salvaged. The modification (-01) authorizes blood and scute sampling of a subset of captured sea turtles for analysis of environmental pollutants. The permit expires January 31, 2017.

Issuance of this modification, as required by the ESA was based on a finding that such permit (1) was applied for in good faith, (2) will not operate to the disadvantage of such endangered or threatened species, and (3) is consistent with the purposes and policies set forth in section 2 of the ESA.

Dated: January 30, 2014.
P. Michael Payne,
Chief, Permits and Conservation Division, Office of Protected Resources, National Marine Fisheries Service.

[FR Doc. 2014-02282 Filed 2-3-14; 8:45 am]

BILLING CODE 3510-22-P